DEPARTMENT OF THE INTERIOR

National Park Service

[N6531; NPS-WASO-NAGPRA-NPS0041084; PPWOCRADN0-PCU00RP14.R50000]

Notice of Intended Repatriation: Sonoma State University, Rohnert Park, CA

AGENCY: National Park Service, Interior.

ACTION: Notice.

SUMMARY: In accordance with the Native American Graves Protection and Repatriation Act (NAGPRA), the Sonoma State University intends to repatriate certain cultural items that meet the definition of unassociated funerary objects, sacred objects, and/or objects of cultural patrimony and that have a cultural affiliation with the Indian Tribes or Native Hawaiian organizations in this notice.

DATES: Repatriation of the cultural items in this notice may occur on or after October 16, 2025.

ADDRESSES: Send additional, written requests for repatriation of the cultural items in this notice to Elise-Alexandria Green, Sonoma State University, 1801 East Cotati Avenue, Rohnert Park, CA 94928, email elise.green@sonoma.edu.

SUPPLEMENTARY INFORMATION: This notice is published as part of the National Park Service's administrative responsibilities under NAGPRA. The determinations in this notice are the sole responsibility of the Sonoma State University, and additional information on the determinations in this notice, including the results of consultation, can be found in the summary or related records. The National Park Service is not responsible for the determinations in this notice.

Abstract of Information Available

A total of 12,078 lots of cultural items have been requested for repatriation. Of the cultural items being requested for repatriation 247 lots are being claimed as unassociated funerary items. The remaining 11,831 lots are being claimed as objects of cultural patrimony.

A total of 65 lots of unassociated funerary objects were removed from CA-SON-567H near Lake Sonoma in Sonoma County, California. There was no information found on how or why the collection was collected and came to Sonoma State University. The cultural items include faunal bone and shell. The cultural items have been housed at Sonoma State University since 1986 under Accession Number 86-01.

A total of one lot of unassociated funerary objects was removed from CA-SON-1163H near Lake Sonoma in Sonoma County, California. There was no information found on how or why the collection was collected and came to Sonoma State University. The cultural item is faunal bone. The cultural item has been housed at Sonoma State University since 1986 under Accession Number 86-01.

A total of nine lots of unassociated funerary objects were removed from CA-SON-1165H near Lake Sonoma in Sonoma County, California. There was no information found on how or why the collection was collected and came to Sonoma State University. The cultural items include faunal bone and shell. The cultural items have been housed at Sonoma State University since 1986 under Accession Number 86-01.

A total of two lots of objects of cultural patrimony were removed from CA-SON-1569 near Lake Sonoma in Cloverdale, Sonoma County California. The cultural items were removed from the site by the Sonoma State Academic Foundation during a mix-strategy archaeological field survey contracted by Sonoma County Planning Department. The purpose of this study was to identify and record precolonial and historic resources, make a preliminary evaluation of resource significance, assess potential impact to the resources as a result of development of the area, and formulate recommendations on how to reduce or eliminate impacts to the sites. The cultural items are a flaked stone tool and debitage. The cultural items have been housed at Sonoma State University since 1987 under Accession Number 87-01.

A total of 12,001 lots of cultural items are being requested for repatriation from sites CA-SON-1470, CA-SON-1471H and CA-SON-1475. The 11,829 lots of objects of cultural patrimony and 172 unassociated funerary objects were removed from CA-SON-1470, CA-SON-1471H, and CA-SON-1475 near Lake Sonoma in Cloverdale, Sonoma County California. These cultural items were removed from these sites during The Rockpile Road Upgrade Project which consisted of improving a segment of Rockpile Road to connect with Kelly Road. The Anthropological Studies Center (ASC) at Sonoma State University performed an initial intensive cultural resource survey in 1985 which identified archaeological and historic sites. The Army Corp of Engineers in collaboration with the California State Historic Preservation Officer concluded that some of the sites may be eligible for the National Register of Historic Places. Further excavations of CA-SON-1471H were performed by the ASC in 1986 and 1987 to evaluate if the site met the qualification of the National Register. The cultural items include debitage, groundstone tools, flaked stone tools, projectile points, historic material, faunal bone, seeds, and soil. The cultural items have been housed at Sonoma State University since 1985, 1986, and 1987 under Accession Numbers 85-01, 86-04, 86-05, and 87-09.

Based on records concerning the unassociated funerary objects and objects of cultural patrimony and the institution in which they were housed, there is no evidence of the cultural items being treated with hazardous substances.

Determinations

The Sonoma State University has determined that:

• The 247 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The 11,831 objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Cloverdale Rancheria of Pomo Indians of California; Dry Creek Rancheria Band of Pomo Indians, California; and the Kashia Band of Pomo Indians of the Stewarts Point Rancheria, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after October 16, 2025. If competing requests for repatriation are received, the Sonoma State University must determine the most appropriate requestor prior to repatriation. Requests for joint repatriation of the cultural items are considered a single request and not competing requests. The Sonoma State University is responsible for sending a copy of this notice to the Indian Tribes and Native Hawaiian organizations identified in this notice and to any other consulting parties.

Authority: Native American Graves Protection and Repatriation Act, 25 U.S.C. 3004 and the implementing regulations, 43 CFR 10.9.

Dated: September 4, 2025.
Melanie O'Brien,
Manager, National NAGPRA Program.

[FR Doc. 2025-17876 Filed 9-15-25; 8:45 am]

BILLING CODE 4312-52-P